DEPARTMENT OF JUSTICE

[OMB 1140-0043]

Agency Information Collection Activities; Proposed eCollection eComments Requested; Revision of a Previously Approved Collection; Title—National Tracing Center (NTC) Trace Request/Solicitud de Rastreo del Centro Nacional de Rastreo (NTC) (ATF Form 3312.1/3312.1(S))

AGENCY: Bureau of Alcohol, Tobacco, Firearms, and Explosives; Department of Justice.

ACTION: 30-Day notice.

SUMMARY: The Department of Justice (DOJ), Bureau of Alcohol, Tobacco, Firearms, and Explosives (ATF), will be submitting the following information collection request to the Office of Management and Budget (OMB) for review and approval in accordance with the Paperwork Reduction Act of 1995.

DATES: Comments are encouraged and will be accepted for 30 days until December 22, 2025.

FOR FURTHER INFORMATION CONTACT: If you have comments, especially on the estimated public burden or associated response time, suggestions, or need a copy of the proposed information collection instrument with instructions or additional information, please contact: Carrie Robertson, National Tracing Center Division, either by mail at 244 Needy Road, Suite 1500, Martinsburg, WV 25405, by email at carrie.robertson@atf.gov, or by telephone at 304-260-1695.

SUPPLEMENTARY INFORMATION: The proposed information collection was previously published in the Federal Register, volume 90, page 37565, on Tuesday, August 5, 2025, allowing a 60-day comment period. We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1140-0043. This information collection request may be viewed at www.reginfo.gov. Follow the instructions to view Department of Justice, information collections currently under review by OMB.

DOJ seeks PRA authorization for this information collection for three years. OMB authorization for an ICR cannot be for more than three years without renewal. DOJ notes that information collection requirements submitted to OMB for existing ICRs receive a month-to-month extension while they undergo review.

Overview of This Information Collection

1. Type of information collection: Revision of a previously approved collection.

2. Title of the form/collection: National Tracing Center (NTC) Trace Request/Solicitud de Rastreo del Centro Nacional de Rastreo (NTC).

3. Agency form number, if any, and the applicable component of the Department of Justice sponsoring the collection: ATF Form 3312.1/3312.1 (S)).

Component: Bureau of Alcohol, Tobacco, Firearms, and Explosives; U.S. Department of Justice.

4. Affected public who will be asked or required to respond, as well as a brief abstract:

Affected public: state, local, and tribal governments. The trace requests are voluntary or as required by the state (not ATF); however, if the respondent wants the trace to be conducted, they must provide the requested information to obtain/retain that benefit.

Abstract: law enforcement agencies (LEAs) at all levels submit requests to ATF to trace guns used in crimes. So that ATF may swiftly and accurately provide responsive information on these crime guns, ATF requests LEAs to submit certain information on Form 3312.1 that will aid ATF in tracing the firearm. ATF reports the resulting information only to the requesting LEA and does not create a registry of firearms in the process.

Information Collection (IC) OMB 1140-0043 is being revised to include an increase in respondents from 1,153 annually to 17,000 since the last renewal period, a difference of 15,847 per year. This is due to more law enforcement agencies submitting more trace requests each year. The adjustments therefore also include an increase in the total number of trace requests from 24,490 during the last renewal to 640,000 now. Consequently, the total burden hours have also increased from 2,449 to 64,000, resulting in a difference since the last renewal of 61,551 total annual hours.

5. Obligation to respond: the obligation to respond is required to obtain/retain a benefit.

6. Total estimated number of respondents: 17,000 respondents.

7. Estimated time per respondent: 6 minutes.

8. Frequency: 30 requests per LEA.

9. Total estimated annual time burden: 51,000 hours.

10. Total estimated annual other costs burden: $0.

Public Comment Summaries and ATF Responses

ATF received two sets of comments during the 60-day public comment period for this ICR. Both sets of comments were from industry trade organizations, one of which represents retailers in the farm store industry, which includes federally licensed firearms dealers, and the other of which represents the firearms industry and recreational shooting and hunting. ATF acknowledges and appreciates the comments and collaborative suggestions submitted by both organizations.

One set of comments expressed support for ATF's mission to enhance public safety through efficient firearms tracing. While they applauded ATF's efforts to keep pace with the increased numbers of firearms trace requests over the past ten years (as reflected in the 60-day notice), they also noted that the continuing increase in trace requests over time and in the future presents an increasing burden for dealers, and strains staffing resources and elevates costs. To this end, the organization outlined two suggestions oriented toward streamlining and making more efficient the process for dealer responses to trace requests.

The commenting organization suggested that ATF should request each licensee to identify a primary point of contact responsible for receiving and coordinating responses to all trace requests. Entities holding multiple licenses could designate a centralized compliance office as the POC, provided they can coordinate timely access to required acquisition and disposition records for each licensee. ATF would then direct trace requests to this designated POC, and licensees could notify NTC in writing if they need to change the POC. The commenting organization's experience has been that trace requests often go to different locations, and a primary POC would strengthen compliance, improve response times, and reduce the chance of dealers missing requests.

ATF agrees with the commenter that the number of trace requests has steadily increased over time and is expected to continue rising. As the data in the 60-day notice cited by the commenter illustrated, over the past ten fiscal years, the number of incoming trace requests has grown by nearly 70%.

The NTC Division provides an internal dealer profile module that permits multiple licensees associated with the same business entity to link with each other and to designate a centralized tracing POC, where applicable. Licensees can also use the dealer profile to document primary and alternate POCs and their contact information (name, preferred contact method, email, fax, phone, contact hours, after-hours contact, etc).

The commenter also recommended that ATF should require law enforcement agencies (LEAs) to explicitly classify their trace requests as “urgent” (e.g., assaults, kidnappings, homicides, etc.) or “routine,” based on ATF's existing categories, convey the category to the dealer with the request, and base the dealer's required response time on the request's urgency. So, for example, instead of being required to respond within 24 hours to all trace requests, dealers would respond within 24 hours to urgent requests. But, the commenter said that, because ATF has a five-day window for responding to LEAs on routine requests, ATF should allow dealers up to five business days in which to respond to ATF on such requests. This would retain rapid investigative support for urgent traces while allowing dealers to plan their resources and responses more effectively for the bulk of routine requests, the commenter added. The commenter also suggested that ATF consider simplified communication for routine trace requests, such as standardized electronic notices or batching, so dealers could respond in a single consolidated effort, which would also help reduce burden, as would encouraging dealers to use NTC Connect or an eTrace Direct API for faster responses.

ATF agrees that classifying requests as routine or urgent is helpful and requires submitting LEAs to classify incoming trace requests as either routine or urgent. We also provide guidance, so submitters know which requests fall into each group.

NTC strives to complete urgent trace requests within 24 hours and routine trace requests within seven days. In response to the commenter's suggestion that ATF allow a longer response time for routine trace requests, we can't consider changing response times in the context of this information collection because the response time is set by statute. 18 U.S.C. 923(g)(7) states that “Each licensee shall respond immediately to, and in no event later than 24 hours after the receipt of, a request by the Attorney General for information contained in the records . . . .” ATF does not have authority to supersede statutory requirements. Aside from the statutory considerations, we note that, on average, each successful trace to an individual purchaser involves 3.5 licensees in the chain of distribution. Allowing each of them up to five days to respond instead of the current 24 hours would have a significant impact on overall completion time, potentially taking up to five times longer than NTC's current average trace processing time of 9.3 days. Given the importance of these traces to law enforcement in apprehending criminals who use firearms in crimes, and the impact that has on public safety, ATF would have reservations about lengthening the licensee response time even in routine cases because of this cumulative effect.

In response to the recommendation to simplify communication methods for routine trace requests, ATF agrees these kinds of changes help reduce burden on responding to licensees. NTC continuously strives to make it as easy as possible for licensees to respond to trace requests by improving efficiency and work processes, and has incorporated practices such as standardized electronic notices, batching, and permitting dealers to respond to multiple requests in one response. NTC consolidates trace requests to the same licensee whenever possible to reduce unnecessary contacts. Additionally, NTC is implementing a new dealer contact service component within the Firearms Tracing System, which will provide standardized electronic notifications to licensees, along with fillable templates they can use to respond to a trace request.

ATF encourages manufacturers, importers, and wholesalers to voluntarily participate in the NTC Connect program and is actively working to implement a more robust solution, known as FFL DIRECT. FFL DIRECT is a secure, asynchronous API service that will enable participating licensees to receive and respond to fully automated firearm trace requests. This service provides licensees the autonomy to conduct automated serial number searches against their electronic records in response to a trace request and electronically transmit disposition information to NTC without relying on inefficient manual methods such as email, phone, or fax. NTC encourages licensees to utilize NTC Connect and has already started promoting the new FFL DIRECT service. Services such as NTC Connect and FFL DIRECT are designed to reduce the burden on licensees and make the trace response process more efficient and secure. By using these tools, licensees can respond to trace requests more quickly and accurately, reducing the burden on the licensee, while also increasing public safety through more timely crime-gun tracing.

The second organization's comments were oriented toward protecting information obtained during trace requests. The commenter suggested that ATF include a clear reminder and explicit statement on ATF Form 3312.1 and its electronic equivalents that ATF may only provide a response for a bona fide criminal investigation by federal, state, local, or tribal law enforcement agencies or prosecutors, and that trace data obtained from such requests may not be knowingly and publicly disclosed pursuant to the restrictions in 18 U.S.C. 923 and 926 and the Tiahrt Amendment. The organization further requested assurance that NTC properly safeguards firearms trace and Firearms Tracing System (FTS) data once provided.

ATF agrees with the commenter that it is important to notify respondents of the disclosure restrictions and to protect the information provided. Supporting law enforcement agencies in carrying out their public safety missions while ensuring the integrity, security, and responsible use of trace data remains a top priority, as protecting public safety and supporting our law enforcement partners are central to ATF's mission. To this end, ATF has planned enhancements already in progress that align with the commenting organization's input. Specifically, the modernized version of eTrace launched in September 2025, and is now available to LEAs. The updated system incorporates a mandatory acknowledgement banner that reinforces these statutory restrictions and requirements, ensuring that users are reminded of the appropriate use and protection of trace data before accessing the system. Additionally, under this new rollout, users are now required to again acknowledge these restrictions each time they retrieve trace results, confirming that such information is restricted to law enforcement use only.

In addition, ATF is adding a statement directly to Form 3312.1, as suggested by the commenter (and a Spanish version of the same statement on the Spanish form, Form 3312.1S). The banner is being added to the forms as part of this ICR renewal and is on the forms being reviewed by OMB.

If you need additional information, contact: Darwin Arceo, Department Clearance Officer, Enterprise Portfolio Management; United States Department of Justice; Two Constitution Square; 145 N Street NE, 4W-218, Washington, DC 20530.

Dated: November 17, 2025.
Darwin Arceo,
Department Clearance Officer for PRA, U.S. Department of Justice.

[FR Doc. 2025-20338 Filed 11-19-25; 8:45 am]

BILLING CODE 4410-FY-P